DEPARTMENT OF ENERGY

Federal Energy Regulatory Commission

[Docket No. RP03-162-011]

Trailblazer Pipeline Company; Notice of Refund Report

May 6, 2004.

Take notice that on April 23, 2004, Trailblazer Pipeline Company (Trailblazer) tendered for filing the Refund Report it issued to Shippers on March 26, 2004. The Refund Report sets out, on a summary and a detailed basis, the refund calculation for Trailblazer's Shippers for the period January 1, 2004, through February 29, 2004.

Trailblazer states that copies of the filing are being mailed to its customers and interested state commissions.

Any person desiring to protest said filing should file a protest with the Federal Energy Regulatory Commission, 888 First Street, NE., Washington, DC 20426, in accordance with section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: May 13, 2004.

Magalie R. Salas,
Secretary.

[FR Doc. E4-1087 Filed 5-12-04; 8:45 am]

BILLING CODE 6717-01-P